DEPARTMENT OF DEFENSE

Department of the Army; Corps of Engineers

Intent To Prepare a Draft Environmental Impact Statement for a Dredged Material Management Plan for the Port of Baltimore, Chesapeake Bay, MD

AGENCY: Department of the Army, U.S. Army Corps of Engineers, DoD.

ACTION: Notice of intent.

SUMMARY: In accordance with the National Environmental Policy Act (NEPA) of 1969, the Baltimore District, U.S. Army Corps of Engineers (USACE) will conduct a study to evaluate the dredged material placement needs and opportunities for the Port of Baltimore, Maryland and develop a Dredged Material Management Plan (DMMP). The study area encompasses the Baltimore Harbor and the Chesapeake Bay approach channels, which extend from the mouth of the Bay in Virginia to Chesapeake and Delaware Canal, in the upper Bay, Maryland/Delaware. The purpose of the plan is to develop a long-term strategy for providing viable placement alternatives that meet the dredging needs of the Port of Baltimore Federal channels and include consideration of state and local dredging needs. The DMMP study will be evaluated through the preparation of a tiered EIS. As part of the process, the goals and objectives of the study will be clearly determined by all study participants. The DMMP will identify the quantity of material to be dredged from the Federal channels and how the dredged material can be managed in an economically and environmentally acceptable manner. Priority will be given to beneficial uses of the material. Beneficial uses include, but are not limited to, restoration of underwater grasses, islands, wetlands, shorelines, or fish and shellfish habitat. The DMMP will identify,evaluate, screen, prioritize, and ultimately optimize placement alternatives resulting in the recommendation of a plan for the placement of dredged materials for at least the next 20 years. The Baltimore District is actively seeking public opinion and advice to be incorporated into the plan. To this end, three public scoping meetings are planned throughout the study area. The meetings are tentatively scheduled at 7:00 p.m. for the following dates, in the following locations: Wednesday, June 12, 2002 at Queen Anne's County Library in Stevensville, MD; Tuesday, June 18, 2002 at Community College of Baltimore County, Dundalk Campus, Campus Community Center, in Baltimore, MD; and Thursday, June 20, 2002 at Anne Arundel Community College, Lecture Hall 101, in Arnold, MD.

The study will be conducted in compliance with Section 404 and Section 401 of the Clean Water Act, Section 7 of the Endangered Species Act, the Clear Air Act, the U.S. Fish and Wildlife Coordination Act, Section 106 of the National Historic Preservation Act, Prime and Unique Farmlands, the Magnuson-Stevens Fishery Conservation and Management Act, and National Pollutant Discharge Elimination System Act. All appropriate documentation (i.e., Section 7, section 106 coordination letters, and public and agency comments) will be obtained and included as part of the Environmental Impact Statement (EIS).

FOR FURTHER INFORMATION CONTACT: Questions about the proposed action and draft EIS can be addressed to Ms. Michele Bistany, U.S. Army Corps of Engineers, ATTN: CENAB-PL, 10 South Howard Street, PO Box 1715, Baltimore, MD 21203-1715, telephone 410-962-4934; e-mail address: michele.a.bistany@usace.army.mil.

SUPPLEMENTARY INFORMATION: 1. The Baltimore District Corps of Engineers is responsible for the maintenance of navigation channels in the Chesapeake Bay and Patapsco River known as the Baltimore Harbor and Channels project. Maintenance of these channels requires the annual placement of approximately 4.5 million cubic yards of dredged material. The DMMP study will include an associated programmatic tiered EIS to allow for identification of a suite of options or projects for future detailed study in order to provide for long-term optimized capacity of dredged material. The tiered EIS allows all interested parties the opportunity to participate in the process from inception. It also includes adequate environmental analysis so that future NEPA documentation can be based on a solid foundation.

2. The USACE, Engineering Regulation (ER) 1105-2-100 mandates that the Corps Districts develop DMMP plans for all Federal harbor projects where there is an indication of insufficient capacity to accommodate maintenance dredging for the next 20 years. The ER further states that the Districts are encouraged to consider options that provide opportunities for beneficial uses of dredged material for environmental purposes including habitat restoration. The DMMP process began with a Preliminary Assessment that was completed in September 2001. The Preliminary Assessment identified placement option shortfalls within the next 8-10 year time frame.

3. As part of the EIS process, recommendations of placement sites and options for dredged material management will be based on an evaluation of the probable impact of the proposed activity on the public interest. The decision will reflect the national concern for the protection and utilization of important resources. The benefit, which may reasonably be expected to accrue from the proposal, will be balanced against its reasonably foreseeable detriments. All factors that may be relevant to the proposal will be considered, among there are wetlands; fish and wildlife resources; cultural resources; land use; water and air quality; hazardous, toxic, and radioactive substances; threatened and endangered species; regional geology; aesthetics; environmental justice; and the general needs and welfare of the public.

4. The draft EIS for the DMMP is expected for public release in late 2004.

Mr. Kevin Bunker,
Assistant Chief, Planning Division.

[FR Doc. 02-13048 Filed 5-23-02; 8:45 am]

BILLING CODE 3710-41-M